ENVIRONMENTAL PROTECTION AGENCY

[EPA-HQ-OAR-2023-0492; FRL-11731-01-OMS]

Agency Information Collection Activities; Submission to the Office of Management and Budget for Review and Approval; Comment Request; Transportation and Climate Division (TCD) Grant Program Reporting Templates: Supplemental Project Application Template and Project Reporting Templates for Diesel Emission Reduction Act (DERA), Clean School Bus (CSB), Clean Heavy Duty (CHD), and Clean Ports Grant Programs (New)

AGENCY: Environmental Protection Agency (EPA).

ACTION: Notice.

SUMMARY: The Environmental Protection Agency has submitted an information collection request (ICR), Transportation and Climate Division (TCD) Grant Program Reporting Templates: Supplemental Project Application Template and Project Reporting Templates for Diesel Emission Reduction Act (DERA), Clean School Bus (CSB), Clean Heavy Duty (CHD), and Clean Ports Grant Programs (EPA ICR Number 2793.01, OMB Control Number 2060-NEW) to the Office of Management and Budget (OMB) for review and approval in accordance with the Paperwork Reduction Act. This is a new ICR. Public comments were previously requested via the Federal Register on October 27, 2023 with a 60-day comment period. This notice allows for an additional 30 days for public comments.

DATES: Comments may be submitted on or before March 7, 2024.

ADDRESSES: Submit your comments, referencing Docket ID No. EPA-HQ-OAR-2023-0492, to EPA online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Timothy Thomas, Office of Transportation and Air Quality, (6406A), Environmental Protection Agency, 1200 Pennsylvania Ave. NW, Washington, DC 20460; telephone number: 734-214-4465; fax number: 202-343-2803; email address: thomas.tim.l@epa.gov.

SUPPLEMENTARY INFORMATION: This is a request for approval of a new collection. An agency may not conduct or sponsor and a person is not required to respond to a collection of information unless it displays a currently valid OMB control number.

Public comments were previously requested via the Federal Register on October 27, 2023 (88 FR 73839). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR is associated with four mobile source-related grant programs administered by the Transportation and Climate Division (TCD), within EPA's Office of Transportation and Air Quality (OTAQ). Those are the Diesel Emission Reduction Act (DERA), Clean School Bus (CSB), Clean Heavy-Duty (CHDV), and Clean Ports Grants Programs.

The DERA Grants Program and the CSB Grant Program currently collect information under an existing ICR, the General Administrative Requirements for Assistance Programs (OMB Control Number 2030-0020), for most major elements of grants administration. But to ease the burden for applicants, awardees, and Agency staff, as well as enrich data quality across programs, the Agency needs to be able to collect information via new reporting instruments, specifically program-specific, fillable data templates. This ICR is requesting clearance to cover fillable data templates for three phases of the grant lifecycle: initial application, quarterly reporting, and final reporting. Notably, for successful grant applicants, the information in data templates collected during the application phase of the grant lifecycle will flow into the data templates for the quarterly and final reporting periods, enabling these templates to capture data efficiently throughout the life of the entire award.

TCD uses approved procedures and forms to collect necessary information to operate its grant programs and has been providing grants under DERA since 2008. EPA is preparing to launch the 2024 Clean Port Program in late winter 2024, the 2024 CHDV Program in early spring 2024, as well as the 2024 DERA grant program in summer 2024, and overseeing the 2023 CSB Grantees, who are expected to begin reporting in mid-2024.

Form numbers: EPA Form Numbers in this IC: 5900-679, 5900-680, 5900-681, 5900-682, 5900-683, 5900-684, 5900-685, 5900-686, 5900-687, 5900-688, 5900-689, 5900-690, 5900-691, 5900-692, and 5900-693 (15 total).

Respondents/affected entities: Entities potentially affected by this action are those interested in applying for grants under EPA's CSB, DERA, CHDV, and Clean Ports programs.

Respondent's obligation to respond: Required to obtain or retain a benefit (Energy Policy Act, Inflation Reduction Act, Bipartisan Infrastructure Law).

Estimated number of respondents: 312.

Frequency of response: One initial report, 4 reports annually, and one final report.

Total estimated burden: 14,589 hours (per year). Burden is defined at 5 CFR 1320.03(b).

Total estimated cost: $822,508 (per year), which includes $0 annualized capital or operation & maintenance costs.

Changes in the estimates: This is a new collection.

Courtney Kerwin,
Director, Information Engagement Division.

[FR Doc. 2024-02396 Filed 2-5-24; 8:45 am]

BILLING CODE 6560-50-P